DEPARTMENT OF DEFENSE

Office of the Secretary

[Docket ID DOD-2008-OS-0165]

Privacy Act of 1974; System of Records

AGENCY: National Security Agency/Central Security Service, DoD.

ACTION: Notice to alter a System of Records.

SUMMARY: The National Security Agency/Central Security Service is proposing to alter a system of records notice in its existing inventory of record systems subject to the Privacy Act of 1974, (5 U.S.C. 552a), as amended.

DATES: This proposed action will be effective without further notice on January 29, 2009 unless comments are received which result in a contrary determination.

ADDRESSES: Send comments to the National Security Agency/Central Security Service, Office of Policy, 9800 Savage Road, Suite 6248, Ft. George G. Meade, MD 20755-6248.

FOR FURTHER INFORMATION CONTACT: Ms. Anne Hill at (301) 688-6527.

SUPPLEMENTARY INFORMATION: The National Security Agency/Central Security Service systems of records notices subject to the Privacy Act of 1974, (5 U.S.C. 552a), as amended, have been published in the Federal Register and are available from the address above.

The proposed system report, as required by 5 U.S.C. 552a(r) of the Privacy Act of 1974, as amended, was submitted on December 19, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 22, 2008.
Morgan E. Frazier,
Alternate OSD Federal Register Liaison Officer, Department of Defense.

GNSA 17

System name:

NSA/CSS Employee Assistance Service (EAS) Case Records (February 22, 1993, 58 FR 10531).

Changes:

* * * * *

Categories of individuals covered in the system:

Delete entry and replace with “NSA/CSS civilian employees, military assignees, and family members who voluntarily request counseling assistance. Non-NSA federal employees and third-party employees (foreign nationals) who are detailed to NSA/CSS.”

Categories of records in the system:

Delete entry and replace with “Files consist of the individual's full name, Social Security Number (SSN), address and case records compiled by counselor and patient questionnaires, questionnaires completed by private counselors to whom clients are referred, the records of medical treatment and services, correspondence with personal physicians and other care providers, NSA/CSS Medical Center reports, results of psychological assessment testing and interviews, psychiatric examination results and related reports.”

Authority for maintenance of the system:

Delete entry and replace with “5 U.S.C. Section 301, Departmental Regulations; 5 U.S.C. Sections 7301, Presidential Regulations and 7361-7362, Employee Assistance Program; 5 U.S.C. Sections 7901-7904, Services to Employees; 42 U.S.C. Sections 290dd-1—290dd-2, Confidentiality of records; 5 CFR Part 792, Federal Employees' Health and Counseling Programs; Executive Order 12564, Drug Free Federal Workplace; Executive Order 12196, Occupational safety and health programs for Federal employees, as amended and E.O. 9397 (SSN).”

* * * * *

Routine uses of records maintained in the system, including categories of users and the purposes of such uses:

Delete entry and replace with “In addition to those disclosures generally permitted under 5 U.S.C. 552a(b) of the Privacy Act, these records or information contained therein may specifically be disclosed outside the DoD as a routine use pursuant to 5 U.S.C. 552a(b)(3) as follows:

In any legal proceeding, where pertinent, to which DoD is a party before a court of administrative body (including, but not limited to the Equal Employment Opportunity Commission and Merit Systems Protection Board).

To any entity or individual under contract with NSA/CSS for the purpose of providing Employee Assistance Service related services.

Note: Record of the identity, diagnosis, prognosis, or treatment of any client/patient, irrespective of whether or when he ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. This statute takes precedence over the Privacy Act of 1974, in regard to accessibility of such records except to the individual to whom the record pertains. The Army's `Blanket Routine Uses' do not apply to these types records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

Storage:

Delete entry and replace with “Paper in file folders and electronic storage media.”

Retrievability:

Delete entry and replace with “By individual's name and/or Social Security Number (SSN).”

Safeguards:

Delete entry and replace with “Buildings are secured by a series of guarded pedestrian gates and checkpoints. Access to facilities is limited to security-cleared personnel and escorted visitors only. Within the facilities themselves, access to paper and computer printouts are controlled by limited-access facilities and lockable containers. Access to electronic means is limited and controlled by computer password protection.”

Retention and disposal:

Delete entry and replace with “Records of clients will be retained at the Employee Assistance Service facility for three years after case closure, retained for five additional years in the Agency storage facility, then destroyed by pulping, burning, shredding, erasure or destruction of magnetic media.

Records of clients who retire or separate within three years of case closing will be retained at the Employee Assistance Service facility for a year after the date of separation or retirement, then stored for five years in the Agency storage facility, then destroyed by pulping, burning, shredding or erasure or destruction of magnetic media.”

System Manager:

Delete entry and replace with “Chief, Employee Assistance Services, National Security Agency/Central Security Service, Ft. George G. Meade, MD 20755-6000.”

Notification Procedure:

Delete entry and replace with “Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.”

Record Access Procedures:

Delete entry and replace with “Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.”

Contesting Record Procedures:

Delete entry and replace with “The NSA/CSS rules for contesting contents and appealing initial determinations are published at 32 CFR part 322 or may be obtained from the systems manager.”

GNSA 17

System name:

NSA/CSS Employee Assistance Service Case Records.

System location:

National Security Agency/Central Security Service, Ft. George G. Meade, MD 20755-6000.

Categories of individuals covered by the system:

NSA/CSS civilian employees, military assignees, and family members who voluntarily request counseling assistance. Non-NSA federal employees and third-party employees (foreign nationals) who are detailed to NSA/CSS.

Categories of records in the system:

Files consist of the individual's full name, Social Security Number (SSN), address and case records compiled by counselor and patient questionnaires, questionnaires completed by private counselors to whom clients are referred, the records of medical treatment and services, correspondence with personal physicians and other care providers, NSA/CSS Medical Center reports, results of psychological assessment testing and interviews, psychiatric examination results and related reports.

Authority for maintenance of the system:

5 U.S.C. Section 301, Departmental Regulations; 5 U.S.C. Sections 7301, Presidential Regulations and 7361-7362, Employee Assistance Program; 5 U.S.C. Sections 7901-7904, Services to Employees; 42 U.S.C. Sections 290dd-1-290dd-2, Confidentiality of records; 5 CFR Part 792, Federal Employees' Health and Counseling Programs; E.O. 12564, Drug Free Federal Workplace; E.O. 12196, Occupational safety and health programs for Federal employees, as amended and E.O. 9397 (SSN).

Purpose(s):

Used by counselors to facilitate and record treatment, referral and follow-up on behalf of employees.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

In any legal proceeding, where pertinent, to which DoD is a party before a court of administrative body (including, but not limited to the Equal Employment Opportunity Commission and Merit Systems Protection Board).

To any entity or individual under contract with NSA/CSS for the purpose of providing Employee Assistance Service related services.

Note: Record of the identity, diagnosis, prognosis, or treatment of any client/patient, irrespective of whether or when he ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. This statute takes precedence over the Privacy Act of 1974, in regard to accessibility of such records except to the individual to whom the record pertains. The Army's `Blanket Routine Uses' do not apply to these types records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper in file folders and electronic storage media.

Retrievability:

By the individual's name and/or Social Security Number (SSN).

Safeguards:

Buildings are secured by a series of guarded pedestrian gates and checkpoints. Access to facilities is limited to security-cleared personnel and escorted visitors only. Within the facilities themselves, access to paper and computer printouts are controlled by limited-access facilities and lockable containers. Access to electronic means is limited and controlled by computer password protection.

Retention and disposal:

Records of clients will be retained at the Employee Assistance Service facility for three years after case closure, retained for five additional years in the Agency storage facility, then destroyed by pulping, burning, shredding, erasure or destruction of magnetic media.

Records of clients who retire or separate within three years of case closing will be retained at the Employee Assistance Service facility for a year after the date of separation or retirement, then stored for five years in the Agency storage facility, then destroyed by pulping, burning, shredding, or erasure or destruction of magnetic media.

System manager(s) and address:

Chief, Employee Assistance Services, National Security Agency/Central Security Service, Ft. George G. Meade, MD 20755-6000.

Notification procedure:

Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.

Record Access Procedures:

Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.

Contesting Record Procedures:

The NSA/CSS rules for contesting contents and appealing initial determinations are published at 32 CFR part 322 or may be obtained from the systems manager.

Record source categories:

Primary sources are Employee Assistance Service counselors, the client and the client's family. Other sources include other counselors, and other individuals within NSA/CSS.

Exemptions claimed for the system:

Portions of this system may be exempt under 5 U.S.C. 552a (k)(1), (k)(2), (k)(4) and (k)(5), as applicable.

Information specifically authorized to be classified under E.O. 12958, as implemented by DoD 5200.1-R, may be exempt pursuant to 5 U.S.C. 552a(k)(1).

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identify of a confidential source. NOTE: When claimed, this exemption allows limited protection of investigative reports maintained in a system of records used in personnel or administrative actions.

Records maintained solely for statistical research or program evaluation purposes and which are not used to make decisions on the rights, benefits, or entitlement of an individual except for census records which may be disclosed under 13 U.S.C. 8, may be exempt pursuant to 5 U.S.C. 552a(k)(4).

Investigatory material compiled solely for the purpose of determining suitability, eligibility, or qualifications for federal civilian employment, military service, federal contracts, or access to classified information may be exempt pursuant to 5 U.S.C. 552a(k)(5), but only to the extent that such material would reveal the identity of a confidential source.

An exemption rule for this record system has been promulgated according to the requirements of 5 U.S.C. 553(b)(1), (2), and (3), (c) and (e) and published in 32 CFR part 322. For additional information contact the system manager.

[FR Doc. E8-30874 Filed 12-29-08; 8:45 am]

BILLING CODE 5001-06-P